DEPARTMENT OF STATE

[Public Notice: 9833]

In the Matter of the Amendment of the Designation of Lashkar-e-Tayyiba and Other Aliases as a Specially Designated Global Terrorist Entity Pursuant to Executive Order 13224

Based upon a review of the administrative record assembled in this matter, and in consultation with the Attorney General and the Secretary of the Treasury, I have concluded that there is a sufficient factual basis to find that Lashkar-e-Tayyiba uses the additional aliases Al-Muhammadia Students, AMS, and Al-Muhammadia Students Pakistan. Therefore, pursuant to Section 1(b) of Executive Order 13224, I hereby amend the designation of Lashkar-e-Tayyiba as a Specially Designated Global Terrorist to include

Al-Muhammadia Students, AMS, and Al-Muhammadia Students Pakistan as aliases.

This determination shall be published in the Federal Register.

Dated: November 28, 2016.
John F. Kerry,
Secretary of State.

[FR Doc. 2016-31782 Filed 12-30-16; 8:45 am]

BILLING CODE 4710-10-P